FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than December 9, 2019.

A. Federal Reserve Bank of Atlanta (Kathryn Haney, Assistant Vice President) 1000 Peachtree Street NE, Atlanta, Georgia 30309. Comments can also be sent electronically to Applications.Comments@atl.frb.org:

1. The Persons Family Trust, Macon, Georgia, George Ogden Persons, III, Macon, Georgia; Jim Gillis Persons, Atlanta, Georgia; and Katherine Persons Kelly, Richmond, Virginia, as co-trustees; and together with George Ogden Persons, III, Jim Gillis Persons, and Katherine Persons Kelly; as members of a group acting in concert to retain voting shares of Persons Banking Co., Inc., Macon, Georgia, and thereby indirectly retain voting shares of Persons Banking Company, Forsyth, Georgia.

Board of Governors of the Federal Reserve System, November 19, 2019.
Yao-Chin Chao,
Assistant Secretary of the Board.

[FR Doc. 2019-25462 Filed 11-22-19; 8:45 am]

BILLING CODE 6210-01-P